DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS) Standards Subcommittee.

Time and Date: November 17, 2011, 1:30 p.m.-5 p.m. November 18, 2011, 8:15 a.m.-4 p.m.

Place: Holiday Inn Rosslyn at Key Bridge Hotel, 1900 N. Fort Meyer Drive, Arlington, VA 22209, (703) 807-2000, http://www.hirosslyn.com.

Status: Open.

Purpose: The purpose of this upcoming meeting of the Subcommittee on Standards is to: (1) Receive industry input on the provisions in Section 10109 of the Affordable Care Act (ACA) that stated that by January 2012, the NCVHS must make recommendations to the Secretary as to (i) whether there could be greater uniformity in financial and administrative activities and items; and (ii) whether such activities should be considered financial and administrative transactions for which the adoption of standards and operating rules would improve the operation of the health care system and reduce administrative costs; (2) begin discussions regarding the standard for electronic claims attachments, another standard that is to be adopted under the Health Insurance Portability and Accountability Act of 1996 (HIPAA) and the Affordable Care Act along with operating rules; and (3) hear commentary and proposals pertaining to the maintenance and modification of standards and operating rules adopted under HIPAA and ACA. The Subcommittee will hear testimony with proposals and recommendations from individual, organizational and association subject matter experts. This meeting will be conducted jointly with members of the HIT Standards and Policy Committees.

The NCVHS has been named in the Patient Protection and Affordable Care Act (ACA) of 2010 to review and make recommendations on several operating rules and standards related to HIPAA transactions. This meeting will support these activities in the development of a set of recommendations for the Secretary, as required by § 1104 of the ACA. Text of the ACA can be found at http://www.whitehouse.gov/healthreform

Contact Person for More Information: Substantive program information as well as summaries of meetings and a roster of committee members may be obtained from Lorraine Doo, lead staff for the Standards Subcommittee, NCVHS, Centers for Medicare and Medicaid Services, Office of E-Health Standards and Services, 7500 Security Boulevard, Baltimore, Maryland 21244, telephone (410) 786-6597 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available. Persons interested in providing oral or written testimony during the April 27th hearing should contact Lorraine Doo at Lorraine.Doo@cms.hhs.gov.

Should you require reasonable accommodation, please contact the CDC Office of Equal Employment Opportunity on (301) 458-4EEO (4336) as soon as possible.

Dated: October 20, 2011.
James Scanlon,
Deputy Assistant Secretary for Planning and Evaluation, Office of the Assistant Secretary for Planning and Evaluation.

[FR Doc. 2011-27797 Filed 10-26-11; 8:45 am]

BILLING CODE 4151-05-P